DEPARTMENT OF AGRICULTURE

Food and Nutrition Service

National School Lunch, Special Milk, and School Breakfast Programs: National Average Payments/Maximum Reimbursement Rates

AGENCY: Food and Nutrition Service (FNS), USDA.

ACTION: Notice; correction.

SUMMARY: This document contains a correction to the notice published in the Federal Register on July 16, 2014 entitled, “National School Lunch, Special Milk, and School Breakfast Programs: National Average Payments/Maximum Reimbursement Rates.”

DATES: Effective Date: These rates are effective from July 1, 2014 through June 30, 2015.

SUPPLEMENTARY INFORMATION: The Food and Nutrition Service published a document in the Federal Register (79 FR 41532) on July 16, 2014. The third sentence in the Background section regarding the Special Milk Program for Children states that for the period July 1, 2014 through June 30, 2015, the rate of reimbursement for a half-pint of milk served to a non-needy child in a school or institution which participates in the Special Milk Program is 20.30 cents. This number is a typographical error and should state the Special Milk Program reimbursement rate is 23.00 cents. It should be noted that this number is correct in the table on page 41535. This document corrects the error.

Correction

In notice document 2014-16719, published on July 16, 2014 at 79 FR 41532, make the following correction: On page 41533, in the first column, in the third sentence under SUPPLEMENTARY INFORMATION, Background, Special Milk Program for Children, change “20.30” to “23.00”.

Dated: July 18, 2014.
Audrey Rowe,
Administrator, Food and Nutrition Service.

[FR Doc. 2014-17683 Filed 7-25-14; 8:45 am]

BILLING CODE 3410-30-P